FEDERAL COMMUNICATIONS COMMISSION

47 CFR Part 79

[MM Docket No. 99-339; FCC 01-7]

Video Description

AGENCY: Federal Communications Commission.

ACTION: Final rule; correction.

SUMMARY: This document is a correction to the final rule portion regarding Video Description of Video Programming published in the Federal Register of February 1, 2001. This document corrects that rule.

DATES: Effective April 1, 2002.

FOR FURTHER INFORMATION CONTACT: Cyndi Thomas or Eric Bash, Policy and Rules Division, Mass Media Bureau, at (202) 418-2120.

SUPPLEMENTARY INFORMATION: This contains a correction to the Commission's Memorandum Opinion and Order on Reconsideration (“MO&O”), MM Docket No. 99-339, FCC 01-7; 66 FR 8521 (February 1, 2001). This document corrects the Federal Register as it appeared in rule FR Doc. 01-2754. The Commission is correcting § 79.3(c)(2) of its rules.

Correction

§ 79.3 [Corrected]

In § 79.3, on page 8529, in the second column, paragraph (c)(2) is corrected to read as follows:

* * * * *

(c) * * *

(2) In order to meet its fifty-hour quarterly requirement, a broadcaster or MVPD may count each program it airs with video description no more than a total of two times on each channel on which it airs the program. A broadcaster or MVPD may count the second airing in the same or any one subsequent quarter.

* * * * *

Federal Communications Commission.
Magalie Roman Salas,
Secretary.

[FR Doc. 01-6819 Filed 3-26-01; 8:45 am]

BILLING CODE 6712-01-P